NATIONAL SCIENCE FOUNDATION

Advisory Committee for Cyberinfrastructure; Notice of Meeting

In accordance with the Federal Advisory Committee Act (Pub. L. 92-463, as amended), the National Science Foundation (NSF) announces the following meeting:

Name and Committee Code: Advisory Committee for Advanced Cyberinfrastructure (Spring 2023) (#25150) (Hybrid Meeting).

Date and Time: April 17, 2023, 10:00 a.m.-3:30 p.m. (Eastern), April 18, 2023, 10:00 a.m.-4:00 p.m. (Eastern).

Place: NSF, 2415 Eisenhower Avenue, Room E3410, Alexandria, VA 22314 (Hybrid).

The final meeting agenda and instructions to register and attend the meeting will be posted on the ACCI website: https://www.nsf.gov/cise/oac/advisory.jsp.

Type of Meeting: Open.

Contact Persons: Amy Walton, National Science Foundation, 2415 Eisenhower Avenue, Alexandria, VA 22314; Telephone: (703) 292-4538.

Minutes: May be obtained from Christine Christy, National Science Foundation, 2415 Eisenhower Avenue, Alexandria, VA 22314; Telephone: (783) 878-0375 and will be posted within 90-days after the meeting end date to the ACCI website: https://www.nsf.gov/cise/oac/advisory.jsp.

Purpose of Meeting: To advise NSF on the impact of its policies, programs and activities in the OAC community. To provide advice to the Director/NSF on issues related to long-range planning.

Agenda: Updates on NSF wide OAC activities.

Dated: March 17, 2023.
Crystal Robinson,
Committee Management Officer.

[FR Doc. 2023-05923 Filed 3-22-23; 8:45 am]

BILLING CODE 7555-01-P